FARM CREDIT ADMINISTRATION

12 CFR Parts 652 and 655

RIN 3052-AC17

Federal Agricultural Mortgage Corporation Funding and Fiscal Affairs; Federal Agricultural Mortgage Corporation Disclosure and Reporting Requirements; Risk-Based Capital Requirements

ACTION: Proposed rule; reopening of the comment period.

SUMMARY: The Farm Credit Administration (FCA) is reopening the comment period on the proposed rule that would revise risk-based capital requirements for the Federal Agricultural Mortgage Corporation (Farmer Mac or Corporation) so that interested parties will have additional time to provide comments.

DATES: Please send your comments to us on or before May 17, 2006.

ADDRESSES: You may mail or deliver comments to Robert Coleman, Director, Office of Secondary Market Oversight, Farm Credit Administration, 1501 Farm Credit Drive, McLean, Virginia 22102-5090, or send them by facsimile transmission to (703) 883-4477. You may also submit your comments by electronic mail to reg-comm@fca.gov, or through the Pending Regulations section of our Web site at http://www.fca.gov, or through the Government-wide Web site http://www.regulations.gov. You may review copies of comments we receive at our office in McLean, Virginia, or from our Web site at “http://www.fca.gov.” Once you are in the Web site, select “Legal Info,” and then select “Public Comments.” We will show your comments as submitted, but for technical reasons we may omit items such as logos and special characters. Identifying information you provide, such as phone numbers and addresses, will be publicly available. However, we will attempt to remove electronic-mail addresses to help reduce Internet spam.

FOR FURTHER INFORMATION CONTACT: Joseph T. Connor, Associate Director for Policy and Analysis, Office of Secondary Market Oversight, Farm Credit Administration, McLean, VA 22102-5090, (703) 883-4280, TTY (703) 883-4434; or

Rebecca S. Orlich, Senior Counsel, Office of General Counsel, Farm Credit Administration, McLean, VA 22102-5090, (703) 883-4020, TTY (703) 883-4020.

SUPPLEMENTARY INFORMATION: On November 17, 2005, FCA published a proposed rule in the Federal Register to amend regulations in parts 652 and 655 that establish a risk-based capital stress test for the Corporation as required by section 8.32 of the Farm Credit Act of 1971, as amended (12 U.S.C. 2279bb-1). See 70 FR 69692, November 17, 2005. The 90-day comment period on the proposed rule was scheduled to expire on February 15, 2006, but was extended for 60 days to April 17, 2006, in a Federal Register notice published on February 13, 2006, in response to a request for additional time. See 71 FR 7446, February 13, 2006. The FCA has now received requests from both a commercial bank and several Farm Credit System institutions to delay action on the rule until they have had sufficient time to prepare comments. These parties indicate additional time is needed to respond to this highly technical and complex proposed rule.

In response to these requests, we are reopening the comment period until May 17, 2006. The FCA supports public involvement and participation in its regulatory process and invites all interested parties to review and provide their comments on the proposed rule. The FCA does not anticipate any further extensions to the comment period.

Dated: April 20, 2006.
Roland E. Smith,
Secretary, Farm Credit Administration Board.

[FR Doc. E6-6294 Filed 4-25-06; 8:45 am]

BILLING CODE 6705-01-P